DEPARTMENT OF ENERGY

Office of Energy Efficiency and Renewable Energy

Proposed Agency Information Collection

AGENCY: Office of Energy Efficiency and Renewable Energy, U.S. Department of Energy.

ACTION: Notice and request for OMB review and comment.

SUMMARY: The Department of Energy (DOE) has submitted to the Office of Management and Budget (OMB) for clearance a proposal for collection of information under the provisions of the Paperwork Reduction Act of 1995. The proposed collection will gather opinions of experts in industry and other organizations regarding the impact on the development and diffusion of energy-efficient technologies and techniques in the construction of residential buildings of DOE/EERE Building Technologies Office (BTO) investments. Expert opinions are necessary to characterize expected patterns of technology development and diffusion in the absence of DOE investments, and so (by comparing these expectations with actual observations) estimate the difference DOE investments have made. This information is needed by DOE for budget justification and strategic planning. Respondents will include representatives of production builder companies (including companies that received DOE R&D funding and companies that received no direct funding from DOE).

DATES: Comments regarding this collection must be received on or before October 13, 2016. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503.

And to: John Mayernik, By email to: john.mayernik@ee.doe.gov, or by mail to: Building Technologies Office, EE-5B, Energy Efficiency and Renewable Energy, U.S. Department of Energy, Washington, DC 20585.

FOR FURTHER INFORMATION CONTACT: John Mayernik, john.mayernik@ee.doe.gov or call 202-287-1754.

SUPPLEMENTARY INFORMATION: This information collection request contains: (1) OMB No. New; (2) Information Collection Request Title: Surveys/Interviews to Gather Expert Opinion on the Impact of DOE/EERE Building Technologies Office Investments have had on the Development and Diffusion of Energy-Efficient Technologies and Techniques in the Construction of Residential Buildings; (3) Type of Request: New collection; (4) Purpose: The information collection will characterize expected patterns of technology development and diffusion in the absence of DOE investments, so that by comparing these expectations with actual observations the impacts of DOE investments can be estimated; this information is needed by DOE for budget justification and strategic planning. Respondents will include representatives of production builder companies (including companies that received DOE R&D funding and companies that received no direct funding from DOE); (5) Annual Estimated Number of Respondents: 104; (6) Annual Estimated Number of Total Responses: 104; (7) Annual Estimated Number of Burden Hours: 52; (8) Annual Estimated Reporting and Recordkeeping Cost Burden: 0.

Statutory Authority: DOE Org Act (42 U.S.C. 7101, et seq.) and 42 U.S.C. 16191 (AMO authority).

Issued in Washington, DC on August 30, 2016.
David Nemtzow,
Director, Building Technologies Office.

[FR Doc. 2016-21962 Filed 9-12-16; 8:45 am]

BILLING CODE 6450-01-P